DEPARTMENT OF JUSTICE

Office of Justice Programs

[OJP (OJJDP) Docket No. 1635]

Hearing of the Advisory Committee of the Attorney General's Task Force on American Indian/Alaska Native Children Exposed to Violence

AGENCY: Office of Juvenile Justice and Delinquency Prevention (OJJDP), Justice.

ACTION: Notice of hearing.

SUMMARY: This is an announcement of the first hearing of the Advisory Committee of the Attorney General's Task Force on American Indian/Alaska Native Children Exposed to Violence (hereafter referred to as the AIAN Advisory Committee). The AIAN Advisory Committee is chartered to provide the Attorney General with valuable advice in the areas of American Indian/Alaska Native children's exposure to violence for the purpose of addressing the epidemic levels of exposure to violence faced by tribal youth. Based on the testimony at four public hearings, on comprehensive research, and on extensive input from experts, advocates, and impacted families and tribal communities nationwide, the AIAN Advisory Committee will issue a final report to the Attorney General presenting its findings and comprehensive policy recommendations in the fall of 2014.

DATES: This first hearing will take place on Monday, December 9, 2013, at 8:30 a.m., (full-day session) and Tuesday, December 10, 2013, at 8:30 a.m. (morning session only).

ADDRESSES: The hearing will take place at the Best Western Ramkota Hotel, 800 South 3rd Street, Bismarck, ND 58504.

FOR FURTHER INFORMATION CONTACT: Jim Antal, AIAN Advisory Committee Designated Federal Officer (DFO) and Deputy Associate Administrator, Youth Development, Prevention and Safety Division, Office of Juvenile Justice & Delinquency Prevention, Office of Justice Programs, 810 7th Street NW., Washington, DC 20531. Phone: (202) 514-1289 [note: this is not a toll-free number]; email: james.antal@usdoj.gov.

SUPPLEMENTARY INFORMATION: This hearing is being convened to provide information to the AIAN Advisory Committee about the issue of American Indian/Alaska Native children's exposure to violence in the home. The focus for this first hearing will be on issues of domestic violence, and child physical and sexual abuse. The final agenda is subject to adjustment, but it is anticipated that on December 9, 2013, there will be a morning and afternoon session, with a break for lunch. The morning session will likely include welcoming remarks and introductions, and panel presentations from invited guests on the impact of American Indian/Alaska Native children's exposure to violence in the home. The afternoon session will likely include presentations from experts invited to brief the AIAN Advisory Committee on measuring and describing American Indian/Alaska Native children's exposure to violence, and existing programs that attempt to address this issue. There will also be opportunities for public comment to occur in the afternoon on December 9th. On December 10th, there will be a morning session that will include a review of material presented during the previous day and planning for subsequent hearings. This meeting is open to the public. Members of the public who wish to attend this meeting must provide photo identification upon entering the hearing facility. Those wishing to provide public testimony during the hearings should register through the registration link at www.justice.gov/defendingchildhood at least seven (7) days in advance of the meeting. Registrations will be accepted on a space available basis. Testimony will not be allowed without prior registration. Please bring photo identification and allow extra time prior to the meeting for your arrival. Persons interested in providing written testimony to the AIAN Advisory Committee should submit their written comments to the DFO at least seven (7) days prior to the hearing at james.antal@usdoj.gov.

Anyone requiring special accommodations should notify Mr. Antal at least seven (7) days in advance of the meeting.

Jim Antal,
Deputy Associate Administrator, Youth Development, Prevention and Safety Division and AI/AN Advisory Committee Designated Federal Officer, Office of Juvenile Justice and Delinquency Prevention, Office of Justice Programs.

[FR Doc. 2013-27875 Filed 11-20-13; 8:45 am]

BILLING CODE 4410-18-P